NATIONAL AERONAUTICS AND SPACE ADMINISTRATION

48 CFR Parts 1847 and 1852

Shipment by Government Bills of Lading

AGENCY: National Aeronautics and Space Administration (NASA).

ACTION: Final rule.

SUMMARY: This rule adopts as final, without change, the interim rule published in the Federal Register on June 6, 2002, which amended the NASA Federal Acquisition Regulation Supplement (NFS) to specify that shipment by Government Bills of Lading (GBLs) may only be used to ship international and domestic overseas items deliverable under contracts, and that all other shipments are to be made via Commercial Bills of Lading (CBLs).

EFFECTIVE DATE: April 8, 2003.

FOR FURTHER INFORMATION: Lou Becker, NASA Headquarters, Office of Procurement, Contract Management Division (Code HK), Washington, DC 20546, telephone: (202) 358-4593, e-mail to: Louis.G.Becker@nasa.gov.

SUPPLEMENTARY INFORMATION:

A. Background

Effective March 31, 2002, the General Services Administration (GSA) retired the use of Optional Form 1103, U.S. Government Bill of Lading (GBL) and Optional Form 1203, U.S. Government Bill of Lading—Privately Owned Personal Property (PPGBL) for domestic shipments. NASA published an interim rule in the Federal Register on June 6, 2002, amending the NFS to comply with changes to the Federal Management Regulation (FMR) part 102-117 (41 CFR 102-117), Transportation Management, published in the Federal Register on October 6, 2000 (65 FR 60060), and FMR part 102-118 (41 CFR 102-118), Transportation Payment and Audit, published in the Federal Register on April 26, 2000 (65 FR 24568). The interim rule revised NASA clause 1852.247-30, Bills of Lading, to indicate that GBLs may only be used to ship international and domestic overseas items deliverable under contracts, and all other domestic shipments shall be made via Commercial Bills of Lading (CBL).

This is not a significant regulatory action, and therefore, was not subject to review under section 6(b) of Executive Order 12866, Regulatory Planning and Review, dated September 30, 1993. This final rule is not a major rule under 5 U.S.C. 804.

B. Regulatory Flexibility Act

NASA certifies that this final rule will not have a significant economic impact on a substantial number of small businesses within the meaning of the Regulatory Flexibility Act (5 U.S.C. 601 et seq.) because the change only affects contracts where the point of delivery for domestic shipments of items deliverable under a contract is f.o.b. origin.

C. Paperwork Reduction Act

The Paperwork Reduction Act does not apply because the changes to the NFS do not impose new recordkeeping or information collection requirements, or collections of information from offerors, contractors, or members of the public which require the approval of the Office of Management and Budget under 44 U.S.C. 3501, et seq.

List of Subjects in 48 CFR Parts 1847 and 1852

Government procurement.

Tom Luedtke,
Assistant Administrator for Procurement.

Interim Rule Adopted as Final Without Change

Accordingly, NASA adopts the interim rule amending 48 CFR parts 1847 and 1852, published in the Federal Register on June 6, 2002 (67 FR 38908), as a final rule without change.

Authority: 42 U.S.C. 2473(c)(1).

PART 1847—TRANSPORTATION

PART 1852—SOLICITATION PROVISIONS AND CONTRACT CLAUSES

[FR Doc. 03-8539 Filed 4-7-03; 8:45 am]

BILLING CODE 7510-01-P